SECURITIES AND EXCHANGE COMMISSION

[SEC File No. 270-566, OMB Control No. 3235-0627]

Submission for OMB Review; Comment Request; Extension: Rule 17g-4

Upon Written Request, Copies Available From: Securities and Exchange Commission, Office of FOIA Services, 100 F Street NE, Washington, DC 20549-2736

Notice is hereby given that pursuant to the Paperwork Reduction Act of 1995 (44 U.S.C. 3501 et seq.), the Securities and Exchange Commission (“Commission”) is soliciting comments on the collection of information summarized below. The Commission plans to submit an extension for this current collection of information to the Office of Management and Budget for approval.

Rule 17g-4 (17 CFR 240.17g-4) requires each nationally recognized statistical rating organization (“NRSROs”) to establish, maintain, and enforce written policies and procedures that are reasonably designed to prevent the following: (1) the inappropriate dissemination of material nonpublic information obtained in connection with the performance of credit rating services; (2) a person within the NRSRO from trading or otherwise benefiting on material nonpublic information; and (3) the inappropriate dissemination of a pending credit rating action.¹

¹ See 17 CFR 240.17g-4.

Currently, there are 10 credit rating agencies registered as NRSROs with the Commission. Based on Commission staff's experience, it is estimated that an NRSRO will spend an average of approximately 10 hours per year reviewing policies and procedures required by Rule 17g-4, updating the policies and procedures (if necessary), and enforcing them, for a total industry-wide annual hour burden of approximately 100 hours.²

² 10 hours × 10 NRSROs = 100 hours.

An agency may not conduct or sponsor, and a person is not required to respond to, a collection of information under the PRA unless it displays a currently valid OMB control number.

The public may view and comment on this information collection at the following website: https://www.reginfo.gov/public/do/PRAViewICR?ref_nbr=202411-3235-004 or send an email comment to MBX.OMB.OIRA.SEC_desk_officer@omb.eop.gov within 30 days of publication of this notice by March 28, 2025.

Dated: February 20, 2025.
Sherry R. Haywood,
Assistant Secretary.

[FR Doc. 2025-03079 Filed 2-25-25; 8:45 am]

BILLING CODE 8011-01-P